COMMITTEE FOR PURCHASE FROM PEOPLE WHO ARE BLIND OR SEVERELY DISABLED

Agency Information Collection Activities; Proposals, Submissions, and Approvals

AGENCY: Committee for Purchase From People Who Are Blind or Severely Disabled.

ACTION: Notice of information collection; extension of comment period.

SUMMARY: On October 22, 2024, the Committee for Purchase From People Who Are Blind or Severely Disabled, operating as the U.S. AbilityOne Commission (Commission), published a Notice of information collection, for a “Disability Qualification Determination” form with a comment period ending on November 16, 2024. This notice announces the Commission's extension of the comment period to November 24, 2024.

DATES: The comment period for the “Disability Qualification Determination” form, published October 22, 2024, at 89 FR 84338, is extended. Electronic comments should be received no later than 11:59 p.m. eastern time on November 24, 2024.

ADDRESSES: Submit comments to www.regulations.gov. To locate this information collection activity, search for Docket #CPPBSD-2024-0004-0082. Follow the instructions for submitting comments. Please be advised that comments received will be posted without change to https://www.regulations.gov, including any personal information provided.

FOR FURTHER INFORMATION CONTACT: Christopher Stewart, Compliance and Enforcement Attorney, Office of General Counsel, U.S. AbilityOne Commission, 355 E Street SW, Suite 325, Washington, DC 20024; telephone: (703) 254-6172; email: cstewart@abilityone.gov. If you are deaf, hard of hearing, or have a speech disability and wish to access telecommunications relay services, please dial 7-1-1.

SUPPLEMENTARY INFORMATION: On October 22, 2024, the Commission published a Notice of information collection, for a “Disability Qualification Determination” form that an AbilityOne-participating nonprofit agency employer will fill out to document its determination of an individual's eligibility to be a qualified direct labor employee for purposes of meeting the statutory requirements of the Javits-Wagner-O'Day (JWOD) Act, 41 U.S.C. 8501-8506. The form is an updated and modified version of the Commission's Individual Eligibility Evaluation (IEE) form (OMB Control #3037-0012). The purpose of the IEE was to determine and document an individual's disability eligibility by identifying the individual's barriers to employment as well as the job supports the individual needs to perform their job. The updated “Disability Qualification Determination” form is consistent with the Commission's responsibilities and ensures that the Commission will collect the most pertinent data to inform its oversight and decision making.

Michael R. Jurkowski,
Director, Business Operations.

[FR Doc. 2024-26658 Filed 11-14-24; 8:45 am]

BILLING CODE 6353-01-P